POSTAL SERVICE

Temporary Emergency Committee of the Board of Governors; Sunshine Act Meeting

DATES AND TIMES: March 24, 2015, at 4 p.m.

PLACE: Washington, DC, via Teleconference.

STATUS: Committee Votes to Close March 24, 2015, Meeting: By telephone vote on March 24, 2015, members of the Temporary Emergency Committee of the Board of Governors of the United States Postal Service met and voted unanimously to close to public observation its meeting held in Washington, DC, via teleconference. The Committee determined that no earlier public notice was possible.

MATTERS CONSIDERED:

Tuesday, March 24, 2015, at 4 p.m.

1. Strategic Issues.

2. Financial Matters.

3. Pricing.

GENERAL COUNSEL CERTIFICATION: The General Counsel of the United States Postal Service has certified that the meeting was properly closed under the Government in the Sunshine Act.

CONTACT PERSON FOR MORE INFORMATION: Requests for information about the meeting should be addressed to the Secretary of the Board, Julie S. Moore, at 202-268-4800.

Julie S. Moore,
Secretary, Board of Governors.

[FR Doc. 2015-08242 Filed 4-7-15; 11:15 am]

BILLING CODE 7710-12-P